DEPARTMENT OF AGRICULTURE

Forest Service

Information Collection: Forest Service Law Enforcement and Investigations Ride-Along Program

AGENCY: Forest Service, Agriculture (USDA).

ACTION: Notice; request for comment.

SUMMARY: In accordance with the Paperwork Reduction Act of 1995, the Forest Service (Agency) is seeking comments from all interested individuals and organizations on the renewal of a currently approved information collection, Forest Service Law Enforcement and Investigations Ride-Along Program.

DATES: Comments must be received in writing on or before January 26, 2026 to be assured of consideration.

ADDRESSES: Comments concerning this notice should be addressed to Director of Law Enforcement and Investigations, USDA Forest Service, 1400 Independence Avenue SW, Mail Stop 1140, Washington, DC 20250-1140. Comments also may be submitted by email to jason.haberberger@usda.gov.

Comments submitted in response to this notice may be made available to the public through relevant websites and upon request. For this reason, please do not include in your comments information of a confidential nature, such as sensitive personal information or proprietary information. If you send an email comment, your email address will be automatically captured and included as part of the comment that is placed in the public docket and made available for public viewing. Please note that comments containing any routine notice about the confidentiality of the communication will be treated as public comments that may be made available to the public notwithstanding the inclusion of the routine notice.

The public may request that an electronic copy of the supporting documents for the information collection, and/or any comments received, be sent via return email. Requests should be emailed to jason.haberberger@usda.gov. The information collection request is posted online at https://www.regulations.gov/.

FOR FURTHER INFORMATION CONTACT: Jason Haberberger, Senior Special Agent, Law Enforcement and Investigations, by phone at 814-728-6296 or by email at jason.haberberger@usda.gov. Individuals who are deaf, hard of hearing, or have a speech disability may call 711 to reach the Telecommunications Relay Service then provide the phone number of the person named as a point of contact for further information.

SUPPLEMENTARY INFORMATION:

Title: Forest Service Law Enforcement and Investigations Ride-Along Program.

OMB Number: 0596-0170.

Expiration Date of Approval: July 31, 2026.

Type of Review: Extension with no revision of a currently approved information collection.

Abstract: This information collection is necessary for Forest Service Law Enforcement and Investigations (LEI) personnel to authorize a rider who applies to participate in the Ride-Along Program. The information collection also provides additional protection for LEI personnel who allow authorized riders to accompany them in boats, cars, trucks, or other vehicles. The purpose of this program is for citizens to learn about and observe Forest Service LEI tasks and activities. The program is intended to enhance Forest Service law enforcement community relationships, improve the quality of Forest Service customer service, and provide LEI personnel a recruitment tool. A rider shall complete two forms in order to participate.

Form FS-5300-33 asks for the participant's name, address, social security number, driver's license number, work address, location of the ride-along, and the reason for the ride-along. Law enforcement officers use form FS-5300-33 to conduct a minimum background check before authorizing a person to ride-along.

Form FS-5300-34 is signed by riders to exempt law enforcement officers and the Forest Service from damage, loss, or injury liability incurred during the rider's participation in the program. If the information is not collected, riders will be denied permission to ride-along with Forest Service law enforcement personnel.

Affected Public: Individuals.

Estimated Annual Burden per Response: 4 minutes.

Estimated Annual Number of Respondents: 101.

Estimated Annual Number of Responses per Respondent: 1.

Estimated Total Annual Burden on Respondents: 13 hours.

Comment Is Invited

Comment is invited on (1) whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for Office of Management and Budget approval.

Chris French,
Associate Chief of the Forest Service.

[FR Doc. 2025-21276 Filed 11-25-25; 8:45 am]

BILLING CODE 3411-15-P